NUCLEAR REGULATORY COMMISSION

Request for Qualified Candidates for Appointment to the Advisory Committee on Reactor Safeguards

AGENCY: Nuclear Regulatory Commission.

ACTION: Request for resumes.

SUMMARY: The U.S. Nuclear Regulatory Commission (NRC) seeks qualified candidates for appointment to the Advisory Committee on Reactor Safeguards (ACRS or Committee).

ADDRESSES: Submit resumes to Sandra Walker, ACRS, Mail Stop: T2B50, U.S. Nuclear Regulatory Commission, Washington, DC 20555-0001, or email Sandra.Walker@nrc.gov.

SUPPLEMENTARY INFORMATION: The ACRS is a part-time advisory group, which is statutorily mandated by the Atomic Energy Act of 1954, as amended. The ACRS provides independent expert advice on matters related to the safety of existing and proposed nuclear reactor facilities and on the adequacy of proposed reactor safety standards. Of primary importance are the safety issues associated with the operation of commercial nuclear power plants in the United States and related regulatory initiatives, including risk-informed and performance-based regulation, license renewals, enhanced burnup for the operating reactor fleet, and, importantly, new licensing applications for non-light water reactors.

An increased emphasis is being given to safety issues associated with new light water and non-light water reactor designs and technologies, including topics related to: neutronics and reactor kinetics analyses, thermal-hydraulic phenomena, passive and inherently safe design features, and integrated reactor core and systems performance; nuclear fuels and fuel management, chemistry, and materials; structural and seismic design and engineering; radiation protection, shielding, and health physics; probabilistic risk analysis and assessment; application of digital instrumentation and control systems; and international codes and industrial standards used in multinational and domestic nuclear design certifications and reviews.

In addition, the ACRS may be requested to provide advice on radiation protection, radioactive waste management, and geosciences in the agency's licensing reviews for fuel fabrication and enrichment facilities, and for waste disposal facilities. The ACRS also has some involvement in security matters related to the integration of safety and security of commercial reactors and facilities. For additional information about the ACRS, see the NRC website at: https://www.nrc.gov/about-nrc/regulatory/advisory/acrs.html.

Criteria used to evaluate candidates include education and experience, demonstrated skills in nuclear reactor safety matters, the ability to solve complex technical problems, and the ability to work collegially on a board, panel, or committee. The Commission, in selecting its ACRS members, also considers the need for specific expertise to accomplish the work expected to be before the Committee. ACRS members are appointed for four-year terms with no term limits. The Commission looks to fill two vacancies as a result of this request. Candidates are desired that have broad, extensive experience in nuclear safety, such as multiple areas of current emphasis (listed previously) or multi-disciplinary expertise in similar fields of nuclear reactor and nuclear fuel cycle safety. Candidates with broad nuclear safety experience in industry, academia, laboratory, or regulatory backgrounds, or work between those environments, are encouraged to apply. The candidates should also have approximately 20 years of education and experience and a distinguished record of achievement in multiple areas of nuclear science and technology, or related engineering disciplines. Candidates with pertinent graduate level education will be given additional consideration, and candidates with relevant experience and a distinguished record who do not quite meet the 20-year threshold are also encouraged to apply.

Consistent with the requirements of the Federal Advisory Committee Act, the Commission seeks candidates with diverse backgrounds, so that the membership on the Committee is fairly balanced in terms of the points of view represented and functions to be performed by the Committee. Candidates will undergo a thorough security background check to obtain the security clearance that is mandatory for all ACRS members. The security background check will involve the completion and submission of paperwork to the NRC. Candidates for ACRS appointment may be involved in or have financial interests related to NRC-regulated aspects of the nuclear industry. However, because conflict-of-interest considerations may restrict the participation of a candidate in ACRS activities, the degree and nature of any such restriction on an individual's activities as a member will be considered in the selection process. Each qualified candidate's financial interests must be reconciled with applicable Federal and NRC rules and regulations prior to final appointment. This might require divestiture of securities or discontinuance of certain contracts or grants. Information regarding these restrictions will be provided upon request. As a part of the Stop Trading on Congressional Knowledge Act of 2012, which bans insider trading by members of Congress, their staff, and other high-level federal employees, candidates for appointment will be required to disclose additional financial transactions.

A resume describing the educational and professional background of each candidate, including any special accomplishments, publications, and professional references should be provided. Candidates should provide their current address, telephone number, and email address. All candidates will receive careful consideration. The NRC does not discriminate in employment on the basis of race, color, religion, sex (including pregnancy and gender identity), national origin, political affiliation, sexual orientation, marital status, disability, genetic information, age, membership in an employee organization, retaliation, parental status, military service, or other non-merit factor. Candidates must be citizens of the United States and be able to devote approximately 100 days per year to Committee business, but may not be compensated for more than 130 calendar days. Appointees may be able to attend some Committee meetings virtually. Resumes will be accepted until October 15, 2024.

Dated: July 11, 2024.
For the Nuclear Regulatory Commission.
Carrie Safford,
Secretary of the Commission.

[FR Doc. 2024-15562 Filed 7-15-24; 8:45 am]

BILLING CODE 7590-01-P